COMMISSION ON CIVIL RIGHTS

Notice of Public Meeting of the Rhode Island Advisory Committee; Correction

AGENCY: Commission on Civil Rights.

ACTION: Notice; revision to meeting date and time.

SUMMARY: The Commission on Civil Rights published a notice in the Federal Register of Friday, April 3, 2020, concerning a meeting of the Rhode Island Advisory Committee. The document contained a date and time that is now changed to a new date and time.

FOR FURTHER INFORMATION CONTACT: Evelyn Bohor, (202) 381-8915, ebohor@usccr.gov.

Correction: In the Federal Register of Friday, April 3, 2020, in FR Doc. 2020-06951, on page 18914-18915, third column of 18914 and first column of 18915, correct the date and time to read: Tuesday, April 14, 2020 at 2:00 p.m. (EDT),

Dated: April 3, 2020.
David Mussatt,
Supervisory Chief, Regional Programs Unit.

[FR Doc. 2020-07443 Filed 4-8-20; 8:45 am]

BILLING CODE P